DEPARTMENT OF ENERGY

Federal Energy Regulatory Commission

[Docket No. EL14-80-000]

Calpine Construction Finance Company, L.P. v. Tampa Electric Company; Notice of Effective Date of Withdrawal of Complaint

1. On September 15, 2014, Calpine Construction Finance Company, L.P. (Calpine Construction) filed a Notice of Withdrawal of Complaint in the above-referenced docket.

2. On September 24, 2014, Tampa Electric Company, filed comments stating it does not oppose Calpine Construction's withdrawal of its complaint.

3. Pursuant to Rule 216 of the Commission's Rules of Practice and Procedure,¹ the withdrawal of a pleading is effective at the end of 15 days from the date the withdrawal pleading was filed, if no motion in opposition is filed and the Commission takes no action to disallow the withdrawal within the 15-day period.

¹ 18 CFR 385.216(b) (2014).

4. No motion opposing the withdrawal was filed and the Commission has taken no action to disallow the withdrawal. Accordingly, the effective date of the withdrawal is September 30, 2014. This proceeding is thereby terminated.

Dated: October 21, 2014.
Kimberly D. Bose,
Secretary.

[FR Doc. 2014-25543 Filed 10-24-14; 8:45 am]

BILLING CODE 6717-01-P